DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by November 14, 2007.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (ADDRESSES above).

Applicant: University of Alaska Museum of the North, Fairbanks, AK, PRT-162170.

The applicant requests a permit to import biological samples from spotted linsang (Prionodon pardicolor) and Asian elephant (Elephas maximus) from the Wildlife Conservation Society, Phnom Penh, Cambodia for the purpose of scientific research. This notification covers activities to be conducted by the applicant over a five-year period.

Applicant: William G. Meeker, El Paso, TX, PRT-158388.

The applicant requests a permit to import one male and one female captive-hatched Northern aplomado falcon (Falco femoralis septentrionalis) from Carlos Manuel Tello Quiroz, Deleg. Alvaro Obregon, Mexico for the purpose of enhancement of the species through captive propagation.

Endangered Marine Mammals and Marine Mammals

The public is invited to comment on the following applications for a permit to conduct certain activities with endangered marine mammals and/or marine mammals. The applications were submitted to satisfy requirements of the Endangered Species Act of 1973, as amended (16 U.S.C. 1531 et seq.) and/or the Marine Mammal Protection Act of 1972, as amended (16 U.S.C. 1361 et seq.), and the regulations governing endangered species (50 CFR part 17) and/or marine mammals (50 CFR part 18). Written data, comments, or requests for copies of the complete applications or requests for a public hearing on these applications should be submitted to the Director (address above). Anyone requesting a hearing should give specific reasons why a hearing would be appropriate. The holding of such a hearing is at the discretion of the Director.

Applicant: USGS Alaska Science Center, Anchorage, AK, PRT-067925.

On August 31, 2005 (70 FR 51838), a notice was published regarding the applicant's request for an amendment to the permit. Since that notice, no amended permit was issued. The applicant has updated the permit amendment request to include up to 200 takes per year of northern sea otters (Enhydra lutris kenyoni), including takes from the threatened population of the species, a modification to the methods of taking, and authorization to import biological samples from the same species for the purpose of scientific research. This notification covers activities to be conducted by the applicant over a five-year period.

Concurrent with the publication of this notice in the Federal Register, the Division of Management Authority is forwarding copies of the above applications to the Marine Mammal Commission and the Committee of Scientific Advisors for their review.

Applicant: Walter T. Coram, Bellaire, TX, PRT-160812.

The applicant requests a permit to import a polar bear (Ursus maritimus) sport hunted from the Northern Beaufort Sea polar bear population in Canada for personal, noncommercial use.

Dated: September 28, 2007.
Lisa J. Lierheimer,
Senior Permit Biologist, Branch of Permits, Division of Management Authority.

[FR Doc. E7-20234 Filed 10-12-07; 8:45 am]

BILLING CODE 4310-55-P